JUDICIAL CONFERENCE OF THE UNITED STATES

Hearings of the Judicial Conference Committees on Appellate, Bankruptcy, Civil and Criminal Rules

AGENCY: Judicial Conference of the United States; Advisory Committees on Appellate, Bankruptcy, Civil, and Criminal Rules.

ACTION: Notice of proposed amendments and open hearings.

SUMMARY: The Advisory Committees on Appellate, Bankruptcy, Civil, and Criminal Rules have proposed amendments to the following rules:

Appellate Rules: 4, 5, 6, 10, 12, 15, 19, 22, 25, 26, 27, 28.1, 30, 31, 39, 40, 41 and new Rule 12.1;

Bankruptcy Rules: 1007, 1011, 1019, 1020, 2002, 2003, 2006, 2007, 2007.2, 2008, 2015, 2015.1, 2015.2, 2015.3, 2016, 3001, 3015, 3017, 3019, 3020, 4001, 4002, 4004, 4008, 6003, 6006, 6007, 7004, 7012, 7052, 8001, 8002, 8003, 8006, 8009, 8015, 8017, 9006, 9021, 9027, 9033, and new Rules 1017.1 and 7058, revisions to Official Form 8, and new Official Form 27;

Civil Rules: 6, 8, 12, 13, 14, 15, 23, 27, 32, 38, 48, 50, 52, 53, 54, 55, 56, 59, 62, 65, 68, 71.1, 72, 81, Supplemental Rules B, C, and G, and Illustrative Civil Forms 3, 4, 60, and new Rule 62.1; and

Criminal Rules: 5.1, 7, 12.1, 12.3, 29, 32, 32.2, 33, 34, 35, 41, 45, 47, 58, 59, Rule 8 of the Rules Governing § 2254 Cases and Rule 8 of the Rules Governing § 2255 Proceedings, and Rule 11 and new Rule 12 of the Rules Governing § 2254 Cases, and Rule 11 of the Rules Governing § 2255 Proceedings.

The text of the proposed rules amendments and new rules and the accompanying Committee Notes can be found at the United States Federal Courts' Home Page at http://www.uscourts.gov/rules.

The Judicial Conference Committee on Rules of Practice and Procedure submits these proposed rules amendments and new rules for public comment. All comments and suggestions with respect to them must be placed in the hands of the Secretary as soon as convenient and, in any event, not later than February 15, 2008. All written comments on the proposed rule amendments can be sent by one of the following three ways: By overnight mail to Peter G. McCabe, Secretary, Committee on Rules of Practice and Procedure of the Judicial Conference of the United States, Thurgood Marshall Federal Judiciary Building, Washington, DC 20544; by electronic mail at Rules_Comments@ao.uscourts.gov; or by facsimile to Peter G. McCabe at (202) 502-1766. In accordance with established procedures all comments submitted on the proposed amendments are available to public inspection.

Public hearings are scheduled to be held on the amendments to:

• Appellate Rules in Pasadena, California, on January 16, 2008, and in New Orleans, Louisiana, on February 1, 2008;

• Bankruptcy Rules in Pasadena, California, on January 16, 2008, and in Washington, DC, on January 25, 2008;

• Civil Rules in Pasadena, California, on January 16, 2008, and in Washington, DC, on January 28, 2008; and

• Criminal Rules in Pasadena, California, on January 16, 2008, and in Washington, DC, on January 18, 2008.

Those wishing to testify should contact the Committee Secretary at the above address in writing at least 30 days before the hearing.

FOR FURTHER INFORMATION CONTACT: John K. Rabiej, Chief, Rules Committee Support Office, Administrative Office of the United States Courts, Washington, DC 20544, Telephone (202) 502-1820.

Dated: October 22, 2007.
John K. Rabiej,
Chief, Rules Committee Support Office.

[FR Doc. 07-5452 Filed 10-31-07; 8:45 am]

BILLING CODE 2210-55-M